DEPARTMENT OF THE INTERIOR

Bureau of Land Management

[UT-062-01-1220-AA]

Notice of Camping and Wood Cutting and Gathering Restrictions, Moab Field Office

AGENCY: Bureau of Land Management (BLM), DOI.

ACTION: Notice of camping and wood cutting and gathering restrictions—Moab Field Office, Utah.

SUMMARY: This notice, applicable to specified public lands administered by the BLM Moab Field Office, limits camping to developed campgrounds and designated sites, allows BLM to limit the size of designated camping areas, and requires the use of portable toilets at these designated sites where toilets are not provided. The notice also prohibits wood cutting and gathering, including Christmas tree cutting, for these intensively used areas and the Sand Flats Recreation Area. These actions are implemented on an interim basis to protect natural resources pending revision of the Resource Management Plan (RMP) for the area administered by the Moab Field Office.

DATES: This notice is effective January 22, 2001, and shall remain in effect until modified or the RMP is amended.

FOR FURTHER INFORMATION CONTACT: Russell von Koch, Resource Advisor, BLM Moab Field Office, 82 East Dogwood Avenue, Moab, Utah 84532 or telephone 435-259-2100.

SUPPLEMENTARY INFORMATION: Frequent use of public lands near Moab, Utah for camping at undeveloped sites and associated wood cutting and gathering is damaging soils, vegetation, and scenic values at local destination areas and along popular trails and roads. The following actions are necessary to limit impacts to natural resource values and maintain the quality of recreation opportunities.

Camping Restrictions Along Highway and Road Corridors

Camping with vehicles on BLM administered public land within one-half mile of the following highways and roads is limited to developed campgrounds and designated sites on a year-round basis to protect scenic values, reduce damage to soils and vegetation, and provide for public safety:

(1) Utah Highway 313;

(2) The Island in the Sky entrance road between Utah Highway 313 and Canyonlands National Park;

(3) The Gemini Bridges route (primarily Grand Co. No. 118) and the spur route from it into “The Bride Canyon;”

(4) The Kane Creek Canyon Rim route from U.S. Highway 191 to where it crosses the eastern boundary of section 20, T. 27 S., R. 22 E. exclusive of the state and private land west of Blue Hill; and

(5) Lands within Long Canyon north of the Colorado Riverway Recreation Area and south of the State land at the head of the canyon within one-half mile of the Long Canyon Road (Grand Co. No. 135).

Other Camping Restrictions

Camping with vehicles on BLM administered public lands is also limited for the above reasons to developed campgrounds and designated sites on a year-round basis in the following areas:

(1) The lands along both sides of U.S. 191 bounded by Arches National Park on the east, private lands in Moab Valley on the south, the Potash Rail Spur on the west, and private and State land near the lower Gemini Bridges Trailhead on the north;

(2) Lands located between the road to Nefertiti Rapid (Grand Co. No. 154) and the shoreline of the Green River along the east side of the river from the public land boundary near Swaseys Take-out upstream to the upper end of the Nefertiti Rapid parking area;

(3) Lands including the Pace Hill, Castle Rock, Ida Gulch, Professor Valley, Mary Jane Canyon, and the upper Onion Creek areas that are south of the Colorado Riverway Recreation Area as established in 1992, below the rims of Adobe and Fisher Mesas, and west of the private land in Fisher Valley;

(4) Lands along the Potash Trail (Grand Co. No. 134, the road between the western end of Utah Highway 279 and Canyonlands National Park) that are east of Canyonlands National Park; south of Dead Horse Point State Park, and other state and private lands, north of the Colorado River, and west of the Colorado Riverway Recreation Area as established in 1992, excluding riverside campsites accessible by water craft from the Colorado River; and

(5) Lands within the Mill Creek Canyon Planning Area.

Backpack type camping within the Mill Creek Planning Area is allowed at sites one-quarter mile or farther from designated roads and greater than 100 feet from Mill Creek and from archaeological sites. All camping continues to be prohibited in the Powerdam and Flat Pass areas under a previously published notice.

For all of the above locations, at developed campgrounds and designated sites where camping is authorized, camping and vehicle travel may be limited to posted site boundaries and parking areas.

Possession and use of portable toilets for solid human body waste is required for overnight use at all designated campsites in the areas described above, except at sites where constructed toilets are provided. Disposal of portable toilet waste off public land is required.

Wood Cutting and Gathering Restrictions

Wood cutting and gathering, including Christmas tree cutting, on BLM administered public land, within all of the areas described above under Camping Restrictions, is prohibited at all times to protect scenic values and vegetation. In addition, wood cutting and gathering, including Christmas tree cutting, is prohibited within the Sand Flats Recreation Area.

Exceptions

Camping and wood cutting and gathering restrictions do not apply to activities permitted by the BLM (including traditional and historic uses by Native Americans); BLM official uses; or military, fire, emergency, or law enforcement actions.

Implementation

Maps showing these and all current Moab Field Office camping and wood cutting and gathering restrictions are available for public review at the Moab Field Office. These restrictions are also shown on a map on the Moab Field Office's website at http://www.blm.gov/utah/moab. BLM will provide public land users with information about these camping and wood cutting and gathering restrictions using brochures, signs, and bulletin boards with maps at major entry areas. Enforcement actions will be taken as necessary.

Authority: Pub. L. 94-579, 43 CFR 8364.1.

Dated: January 12, 2001.
Sally Wisely,
State Director.

[FR Doc. 01-1594 Filed 1-19-01; 8:45 am]

BILLING CODE 4310-DQ-U